DEPARTMENT OF ENERGY

Federal Energy Regulatory Commission

Combined Notice of Filings #2

July 26, 2010.

Take notice that the Commission received the following electric rate filings:

Docket Numbers: ER10-1901-001.

Applicants: Upper Peninsula Power Company.

Description: Upper Peninsula Power Company submits tariff filing per 35: Joint Tariff For Sales of Ancillary Services, Volume No. 2 to be effective 7/23/2010.

Filed Date: 07/23/2010.

Accession Number: 20100723-5088.

Comment Date: 5 p.m. Eastern Time on Friday, August 13, 2010.

Docket Numbers: ER10-1908-000.

Applicants: Duquesne Conemaugh, LLC.

Description: Duquesne Conemaugh, LLC submits tariff filing per 35.12: Duquesne Conemaugh, LLC Market Rate Tariff Volume No. 1 to be effective 7/23/2010.

Filed Date: 07/23/2010.

Accession Number: 20100723-5000.

Comment Date: 5 p.m. Eastern Time on Friday, August 13, 2010.

Docket Numbers: ER10-1909-000.

Applicants: Duquesne Keystone, LLC.

Description: Duquesne Keystone, LLC submits tariff filing per 35.12: Duquesne Keystone, LLC Market Rate Tariff Volume No. 1 to be effective 7/23/2010.

Filed Date: 07/23/2010.

Accession Number: 20100723-5001.

Comment Date: 5 p.m. Eastern Time on Friday, August 13, 2010.

Docket Numbers: ER10-1910-000.

Applicants: Duquesne Light Company.

Description: Duquesne Light Company submits tariff filing per 35.12: Market Rate Tariff, Volume No. 3, to be effective 7/23/2010.

Filed Date: 07/23/2010.

Accession Number: 20100723-5002.

Comment Date: 5 p.m. Eastern Time on Friday, August 13, 2010.

Docket Numbers: ER10-1911-000.

Applicants: Duquesne Power, LLC.

Description: Duquesne Power, LLC submits tariff filing per 35.12: Duquesne Power, LLC Rate Schedule FERC No. 1 to be effective 7/23/2010.

Filed Date: 07/23/2010.

Accession Number: 20100723-5003.

Comment Date: 5 p.m. Eastern Time on Friday, August 13, 2010.

Docket Numbers: ER10-1912-000.

Applicants: Stand Energy Corporation.

Description: Stand Energy Corporation submits tariff filing per 35.12: Stand Energy Corporation FERC Electric Rate Schedule No. 1 to be effective 7/23/2010.

Filed Date: 07/23/2010.

Accession Number: 20100723-5004.

Comment Date: 5 p.m. Eastern Time on Friday, August 13, 2010.

Docket Numbers: ER10-1915-000.

Applicants: Bayswater Peaking Facility, LLC.

Description: Bayswater Peaking Facility, LLC submits tariff filing per 35.12: Bayswater Baseline Filing to be effective 7/23/2010.

Filed Date: 07/23/2010.

Accession Number: 20100723-5029.

Comment Date: 5 p.m. Eastern Time on Friday, August 13, 2010.

Docket Numbers: ER10-1916-000.

Applicants: Florida Power Corporation.

Description: Florida Power Corporation Notice of Cancellation of Service Agreement with Winter Park, Florida.

Filed Date: 07/23/2010.

Accession Number: 20100723-5050.

Comment Date: 5 p.m. Eastern Time on Friday, August 13, 2010.

Docket Numbers: ER10-1917-000.

Applicants: Dominion Nuclear Connecticut, Inc.

Description: Dominion Nuclear Connecticut, Inc. submits tariff filing per 35.12: Baseline to be effective 7/23/2010.

Filed Date: 07/23/2010.

Accession Number: 20100723-5086.

Comment Date: 5 p.m. Eastern Time on Friday, August 13, 2010.

Docket Numbers: ER10-1918-000.

Applicants: FPL Energy North Dakota Wind II, LLC.

Description: FPL Energy North Dakota Wind II, LLC submits tariff filing per 35.12: North Dakota II Baseline Filing to be effective 7/23/2010.

Filed Date: 07/23/2010.

Accession Number: 20100723-5092.

Comment Date: 5 p.m. Eastern Time on Friday, August 13, 2010.

Docket Numbers: ER10-1919-000.

Applicants: PJM Interconnection, L.L.C.

Description: PJM Interconnection, LLC submits notice of the cancellation of a wholesale market participation agreement with Vision Power Systems, Inc, designated as Original Service Agreement 2008.

Filed Date: 07/23/2010.

Accession Number: 20100723-0209.

Comment Date: 5 p.m. Eastern Time on Friday, August 13, 2010.

Docket Numbers: ER10-1920-000.

Applicants: FPL Energy Oklahoma Wind, LLC.

Description: FPL Energy Oklahoma Wind, LLC submits tariff filing per 35.12: Oklahoma Baseline Filing to be effective 7/23/2010.

Filed Date: 07/23/2010.

Accession Number: 20100723-5096.

Comment Date: 5 p.m. Eastern Time on Friday, August 13, 2010.

Docket Numbers: ER10-1921-000.

Applicants: PJM Interconnection, L.L.C.

Description: PJM Interconnection, LLC submits an executed Wholesale Market Participation Agreement with Sustainable Energy Holdings, LLC and Pennsylvania Electric Company.

Filed Date: 07/23/2010.

Accession Number: 20100723-0208.

Comment Date: 5 p.m. Eastern Time on Friday, August 13, 2010.

Docket Numbers: ER10-1922-000.

Applicants: PacifiCorp.

Description: PacifiCorp submits Notice of Termination for Service Agreement 379 under Seventh Revised Volume 11 Open Access Transmission Tariff, Long-Term Firm Point-to-Point Transmission Service Agreement.

Filed Date: 07/23/2010.

Accession Number: 20100723-0207.

Comment Date: 5 p.m. Eastern Time on Friday, August 13, 2010.

Docket Numbers: ER10-1923-000.

Applicants: PacifiCorp.

Description: PacifiCorp submits its Transmission System Interconnection Agreement dated 6/21/10 with Western Area Power Administration, Department of Energy designated as Rate Schedule FERC No 660.

Filed Date: 07/23/2010.

Accession Number: 20100723-0206.

Comment Date: 5 p.m. Eastern Time on Friday, August 13, 2010.

Docket Numbers: ER10-1924-000.

Applicants: Wisconsin Public Service Corporation.

Description: Wisconsin Public Service Corporation submits tariff filing per 35.12: Rate Schedule No. 87 to be effective 10/1/2010.

Filed Date: 07/23/2010.

Accession Number: 20100723-5106.

Comment Date: 5 p.m. Eastern Time on Friday, August 13, 2010.

Docket Numbers: ER10-1925-000.

Applicants: FPL Energy Oliver Wind I, LLC.

Description: FPL Energy Oliver Wind I, LLC submits tariff filing per 35.12: Oliver I Baseline Filing to be effective 7/23/2010.

Filed Date: 07/23/2010.

Accession Number: 20100723-5107.

Comment Date: 5 p.m. Eastern Time on Friday, August 13, 2010.

Docket Numbers: ER10-1926-000.

Applicants: Duke Energy Carolinas, LLC.

Description: Duke Energy Carolinas, LLC submits a Network Integration Transmission Service Agreement with the City of Seneca, South Carolina.

Filed Date: 07/23/2010.

Accession Number: 20100723-0205.

Comment Date: 5 p.m. Eastern Time on Friday, August 13, 2010.

Docket Numbers: ER10-1927-000.

Applicants: FPL Energy Oliver Wind II, LLC.

Description: FPL Energy Oliver Wind II, LLC submits tariff filing per 35.12: Oliver II Baseline Filing to be effective 7/23/2010.

Filed Date: 07/23/2010.

Accession Number: 20100723-5110.

Comment Date: 5 p.m. Eastern Time on Friday, August 13, 2010.

Docket Numbers: ER10-1928-000.

Applicants: FPL Energy Sooner Wind, LLC.

Description: FPL Energy Sooner Wind, LLC submits tariff filing per 35.12: Sooner Baseline Filing to be effective 7/23/2010.

Filed Date: 07/23/2010.

Accession Number: 20100723-5111.

Comment Date: 5 p.m. Eastern Time on Friday, August 13, 2010.

Docket Numbers: ER10-1929-000.

Applicants: FPL Energy South Dakota Wind, LLC.

Description: FPL Energy South Dakota Wind, LLC submits tariff filing per 35.12: South Dakota Baseline Filing, to be effective 7/23/2010.

Filed Date: 07/23/2010.

Accession Number: 20100723-5113.

Comment Date: 5 p.m. Eastern Time on Friday, August 13, 2010.

Docket Numbers: ER10-1930-000.

Applicants: FPL Energy Stateline II, Inc.

Description: FPL Energy Stateline II, Inc. submits tariff filing per 35.12: Stateline II Baseline Filing to be effective 7/23/2010.

Filed Date: 07/23/2010.

Accession Number: 20100723-5117.

Comment Date: 5 p.m. Eastern Time on Friday, August 13, 2010.

Docket Numbers: ER10-1931-000.

Applicants: FPL Energy Vansycle, L.L.C.

Description: FPL Energy Vansycle, L.L.C. submits tariff filing per 35.12: Vansycle Baseline Filing to be effective 7/23/2010.

Filed Date: 07/23/2010.

Accession Number: 20100723-5126.

Comment Date: 5 p.m. Eastern Time on Friday, August 13, 2010.

Docket Numbers: ER10-1932-000.

Applicants: FPL Energy Wyman, LLC.

Description: FPL Energy Wyman, LLC submits tariff filing per 35.12: Wyman Baseline Filing, to be effective 7/23/2010.

Filed Date: 07/23/2010.

Accession Number: 20100723-5128.

Comment Date: 5 p.m. Eastern Time on Friday, August 13, 2010.

Docket Numbers: ER10-1933-000.

Applicants: RockGen Energy, LLC.

Description: RockGen Energy, LLC submits tariff filing per 35.12: Market-Based Rate Tariff in Compliance with Order No. 714 to be effective 7/23/2010.

Filed Date: 07/23/2010.

Accession Number: 20100723-5135.

Comment Date: 5 p.m. Eastern Time on Friday, August 13, 2010.

Docket Numbers: ER10-1934-000.

Applicants: CES Marketing IX, LLC.

Description: CES Marketing IX, LLC submits tariff filing per 35.12: Market-Based Rate Tariff in Compliance with Order No. 714 to be effective 7/23/2010.

Filed Date: 07/23/2010.

Accession Number: 20100723-5136.

Comment Date: 5 p.m. Eastern Time on Friday, August 13, 2010.

Docket Numbers: ER10-1935-000.

Applicants: FPL Energy Wyman IV, LLC.

Description: FPL Energy Wyman IV, LLC submits tariff filing per 35.12: Wyman IV Baseline Filing to be effective 7/23/2010.

Filed Date: 07/23/2010.

Accession Number: 20100723-5137.

Comment Date: 5 p.m. Eastern Time on Friday, August 13, 2010.

Docket Numbers: ER10-1936-000.

Applicants: Carville Energy LLC.

Description: Carville Energy LLC submits tariff filing per 35.12: Market-Based Rate Tariff in Compliance with Order No. 714 to be effective 7/23/2010.

Filed Date: 07/23/2010.

Accession Number: 20100723-5140.

Comment Date: 5 p.m. Eastern Time on Friday, August 13, 2010.

Docket Numbers: ER10-1937-000.

Applicants: Calpine Power—OR, LLC.

Description: Calpine Power America—OR, LLC submits tariff filing per 35.12: Market-Based Rate Tariff in Compliance with Order No. 714 to be effective 7/23/2010.

Filed Date: 07/23/2010.

Accession Number: 20100723-5144.

Comment Date: 5 p.m. Eastern Time on Friday, August 13, 2010.

Docket Numbers: ER10-1938-000.

Applicants: Calpine Power America—CA, LLC.

Description: Calpine Power America—CA, LLC submits tariff filing per 35.12: Market-Based Rate Tariff in Compliance with Order No. 714 to be effective 7/23/2010.

Filed Date: 07/23/2010.

Accession Number: 20100723-5147.

Comment Date: 5 p.m. Eastern Time on Friday, August 13, 2010.

Docket Numbers: ER10-1939-000.

Applicants: PPL Electric Utilities Corporation.

Description: PPL Electric Utilities Corp submits a revised Interconnection Agreement with Metropolitan Edison Co.

Filed Date: 07/23/2010.

Accession Number: 20100723-0215.

Comment Date: 5 p.m. Eastern Time on Friday, August 13, 2010.

Docket Numbers: ER10-1940-000.

Applicants: Calpine Oneta Power, L.P.

Description: Calpine Oneta Power, L.P. submits tariff filing per 35.12: Market-Based Rate Tariff in Compliance with Order No. 714 to be effective 7/23/2010.

Filed Date: 07/23/2010.

Accession Number: 20100723-5148.

Comment Date: 5 p.m. Eastern Time on Friday, August 13, 2010.

Docket Numbers: ER10-1941-000.

Applicants: Calpine Gilroy Cogen, L.P.

Description: Calpine Gilroy Cogen, L.P. submits tariff filing per 35.12: Market-Based Rate Tariff in Compliance with Order No. 714 to be effective 7/23/2010.

Filed Date: 07/23/2010.

Accession Number: 20100723-5149.

Comment Date: 5 p.m. Eastern Time on Friday, August 13, 2010.

Docket Numbers: ER10-1942-000.

Applicants: Calpine Construction Finance Co., L.P.

Description: Calpine Construction Finance Co., L.P. submits tariff filing per 35.12: Market-Based Rate Tariff in Compliance with Order No. 714 to be effective 7/23/2010.

Filed Date: 07/23/2010.

Accession Number: 20100723-5150.

Comment Date: 5 p.m. Eastern Time on Friday, August 13, 2010.

Docket Numbers: ER10-1943-000.

Applicants: Blue Spruce Energy Center, LLC.

Description: Blue Spruce Energy Center, LLC submits tariff filing per 35.12: Market-Based Rate Tariff in Compliance with Order No. 714 to be effective 7/23/2010.

Filed Date: 07/23/2010.

Accession Number: 20100723-5152.

Comment Date: 5 p.m. Eastern Time on Friday, August 13, 2010.

Docket Numbers: ER10-1944-000.

Applicants: Bethpage Energy Center 3, LLC.

Description: Bethpage Energy Center 3, LLC submits tariff filing per 35.12: Market-Based Rate Tariff in Compliance with Order No. 714 to be effective 7/23/2010.

Filed Date: 07/23/2010.

Accession Number: 20100723-5158.

Comment Date: 5 p.m. Eastern Time on Friday, August 13, 2010.

Docket Numbers: ER10-1945-000.

Applicants: Auburndale Peaker Energy Center, L.L.C.

Description: Auburndale Peaker Energy Center, L.L.C. submits tariff filing per 35.12: Market-Based Rate Tariff in Compliance with Order No. 714 to be effective 7/23/2010.

Filed Date: 07/23/2010.

Accession Number: 20100723-5162.

Comment Date: 5 p.m. Eastern Time on Friday, August 13, 2010.

Docket Numbers: ER10-1946-000.

Applicants: Broad River Energy LLC.

Description: Broad River Energy LLC submits tariff filing per 35.12: Market-Based Rate Tariff in Compliance with Order No. 714 to be effective 7/23/2010.

Filed Date: 07/23/2010.

Accession Number: 20100723-5163.

Comment Date: 5 p.m. Eastern Time on Friday, August 13, 2010.

Docket Numbers: ER10-1947-000.

Applicants: Otay Mesa Energy Center, LLC.

Description: Otay Mesa Energy Center, LLC submits tariff filing per 35.12: Market-Based Rate Tariff in Compliance with Order No. 714 to be effective 7/23/2010.

Filed Date: 07/23/2010.

Accession Number: 20100723-5164.

Comment Date: 5 p.m. Eastern Time on Friday, August 13, 2010.

Docket Numbers: ER10-1948-000.

Applicants: FPL Energy Wyoming, LLC.

Description: FPL Energy Wyoming, LLC submits tariff filing per 35.12: Wyoming Baseline Filing to be effective 7/23/2010.

Filed Date: 07/23/2010.

Accession Number: 20100723-5166.

Comment Date: 5 p.m. Eastern Time on Friday, August 13, 2010.

Docket Numbers: ER10-1949-000.

Applicants: FPLE Rhode Island State Energy, L.P.

Description: FPLE Rhode Island State Energy, L.P. submits tariff filing per 35.12: FPLE RI Baseline Filing to be effective 7/23/2010.

Filed Date: 07/23/2010.

Accession Number: 20100723-5167.

Comment Date: 5 p.m. Eastern Time on Friday, August 13, 2010.

Docket Numbers: ER10-1950-000.

Applicants: Garden Wind, LLC.

Description: Garden Wind, LLC submits tariff filing per 35.12: Garden Baseline Filing to be effective 7/23/2010.

Filed Date: 07/23/2010.

Accession Number: 20100723-5172.

Comment Date: 5 p.m. Eastern Time on Friday, August 13, 2010.

Docket Numbers: ER10-1951-000.

Applicants: Gexa Energy L.L.C.

Description: Gexa Energy L.L.C. submits tariff filing per 35.12: Gexa Baseline Filing, to be effective 7/23/2010.

Filed Date: 07/23/2010.

Accession Number: 20100723-5179.

Comment Date: 5 p.m. Eastern Time on Friday, August 13, 2010.

Docket Numbers: ER10-1952-000.

Applicants: Gray County Wind Energy, LLC.

Description: Gray County Wind Energy, LLC submits tariff filing per 35.12: Gray County Baseline Filing to be effective 7/23/2010.

Filed Date: 07/23/2010.

Accession Number: 20100723-5182.

Comment Date: 5 p.m. Eastern Time on Friday, August 13, 2010.

Docket Numbers: ER10-1953-000.

Applicants: California Independent System Operator Corporation.

Description: California Independent System Operator Corporation submits tariff filing per 35: 2010-07-23 Transmission Constraints Filing, to be effective 7/13/2010.

Filed Date: 07/23/2010.

Accession Number: 20100723-5185.

Comment Date: 5 p.m. Eastern Time on Friday, August 13, 2010.

Docket Numbers: ER10-1955-000.

Applicants: Consolidated Edison Company of New York,

Description: Errata filing of Consolidated Edison Company of New York, Inc.

Filed Date: 07/26/2010.

Accession Number: 20100726-5168.

Comment Date: 5 p.m. Eastern Time on Monday, August 16, 2010.

Docket Numbers: ER10-1956-000.

Applicants: New York State Electric & Gas Corporation.

Description: New York State Electric & Gas Corporation submits an executed version of the Original Service Agreement 1601 between NYSEG and Standard under the NYISO Open Access Transmission Agreement etc.

Filed Date: 07/26/2010.

Accession Number: 20100726-0206.

Comment Date: 5 p.m. Eastern Time on Monday, August 16, 2010.

Docket Numbers: ER10-1958-000.

Applicants: Southern California Edison Company.

Description: Southern California Edison Company submits tariff filing per 35: LGIA_Alta Wind CPC East & West_Compliance_072610 to be effective 6/1/2010.

Filed Date: 07/26/2010.

Accession Number: 20100726-5108.

Comment Date: 5 p.m. Eastern Time on Monday, August 16, 2010.

Docket Numbers: ER10-1959-000.

Applicants: Lower Mount Bethel Energy, LLC

Description: Lower Mount Bethel Energy, LLC submits tariff filing per 35.12: Lower Mount Bethel Energy, LLC Baseline Filing to be effective 7/26/2010.

Filed Date: 07/26/2010.

Accession Number: 20100726-5125.

Comment Date: 5 p.m. Eastern Time on Monday, August 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-18981 Filed 8-2-10; 8:45 am]

BILLING CODE 6717-01-P